DEPARTMENT OF HEALTH AND HUMAN SERVICES

Centers for Medicare & Medicaid Services

42 CFR Parts 417, 422, and 423

[CMS-4157-CN]

RIN 0938-AQ86

Medicare Program; Changes to the Medicare Advantage and the Medicare Prescription Drug Benefit Programs for Contract Year 2013 and Other Changes; Corrections

AGENCY: Centers for Medicare & Medicaid Services (CMS), HHS.

ACTION: Final rule with comment period; correction.

SUMMARY: This document corrects technical errors and typographical errors in the final rule with comment period entitled “Medicare Program; Changes to the Medicare Advantage and the Medicare Prescription Drug Benefit Programs for Contract Year 2013 and Other Changes” which appeared in the April 12, 2012 Federal Register.

DATES: Effective date: This document is effective June 1, 2012.

FOR FURTHER INFORMATION CONTACT: Kathryn Jansak, (410) 786-9364.

SUPPLEMENTARY INFORMATION:

I. Background

In FR Doc. 2012-8071 of April 12, 2012 (77 FR 22072), the final rule with comment period entitled “Medicare Program; Changes to the Medicare Advantage and the Medicare Prescription Drug Benefit Programs for Contract Year 2013 and Other Changes” there were several technical errors and typographical errors that are identified and corrected in the Correction of Errors section.

II. Summary of Errors

A. Summary of Errors in the Preamble

On page 22072, in the DATES section, we erroneously referenced the amendments to the definitions of “other health or prescription drug coverage” at § 423.2305 and “supplemental benefits” at § 423.100 as being effective January 1, 2013. We also inadvertently omitted references to several sections of the regulation text that are effective January 1, 2013.

On page 22076, the table titled “Table 2: Finalized Revisions with Effective and/or Applicable Dates Other Than 60 Days After Publication” was inadvertently numbered “Table 2” instead of “Table 1.”

On page 22082, in the discussion regarding the effective and applicable dates of the regulatory and conforming changes to the definition of “other health or prescription drug coverage,” we inadvertently omitted language.

B. Summary of Errors in the Regulations Text

On page 22169, we made a typographical error in an amendatory instruction and inadvertently omitted a term in the definition of “daily cost-sharing rate” at § 423.100.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(b) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

This correcting document does not constitute a rulemaking that would be subject to the APA notice and comment or delayed effective date requirements. This correcting document corrects technical errors in the effective dates and typographical errors in the regulation text of the April 12, 2012 final rule with comment period and does not make substantive changes to the policies or payment methodologies that were adopted in the final rule with comment period. As a result, this correcting document is intended to ensure that information included in the April 12, 2012 final rule with comment period accurately reflects the policies adopted in that rule. Undertaking further notice and comment procedures to incorporate the corrections in this document into the final rule with comment period would be contrary to the public interest. Furthermore, such procedures would be unnecessary, as we are not altering the policies that were already subject to comment and finalized in our final rule with comment period. Therefore, we believe we have good cause to waive prior notice and comment.

For the same reasons, we are also waiving the 30-day delay in effective date for these corrections. We believe that it is in the public interest to ensure that the April 12, 2012 final rule with comment period accurately states our policies as of the date they take effect. Therefore, we find that delaying the effective date of these corrections beyond the effective date of the final rule with comment period would be contrary to the public interest. In so doing, we find good cause to waive the 30-day delay in the effective date.

IV. Correction of Errors

In FR Doc. 2012-8071 of April 12, 2012 (77 FR 22072), make the following corrections:

A. Correction of Errors in the Preamble

1. On page 22072, first column, “DATES” section, the paragraph that begins “These regulations are effective” and ends “are effective January 1, 2013” is corrected to read “These regulations are effective on June 1, 2012 unless otherwise specified in this final rule. The amendments to: the definition of “Part D drugs” at § 423.100; § 423.153(d)(1)(vii)(B); § 423.600(a) through (c); and § 423.602(a) are effective January 1, 2013. See section I.B. of this final rule with comment period and Table 1 for additional information regarding effective and applicability dates.”

2. On page 22076, bottom half of the page, the table heading, “TABLE 2—FINALIZED REVISIONS WITH EFFECTIVE AND/OR APPLICABLE DATES OTHER THAN 60 DAYS AFTER PUBLICATION” is corrected to read “TABLE 1—FINALIZED REVISIONS WITH EFFECTIVE AND/OR APPLICABLE DATES OTHER THAN 60 DAYS AFTER PUBLICATION”.

3. On page 22082, third column, second full paragraph, line 17, the phrase “existing definition will on” is corrected to read” “existing definition will be applicable on”.

B. Correction of Errors in the Regulations Text

1. On page 22169, first column—

A. Fourth full paragraph, (amendments to § 423.100, amendatory instruction 24.B.) lines 5 and 6, the sentence “By revising paragraph (2)(iii) of the definition of “Incurred costs” is corrected to read “By revising paragraph (2)(ii) of the definition of “Incurred costs”.

B. Tenth full paragraph (paragraph (2) of the definition of “Daily cost-sharing” at § 423.100), line 2, the phrase “enrollee's Part D” is corrected to read “enrollee's Part D plan”.

(Catalog of Federal Domestic Assistance Program No. 93.778, Medical Assistance Program) (Catalog of Federal Domestic Assistance Program No. 93.773, Medicare—Hospital Insurance; and Program No. 93.774)

Dated: May 24, 2012.
Jennifer M. Cannistra,
Executive Secretary to the Department.

[FR Doc. 2012-13362 Filed 5-31-12; 8:45 am]

BILLING CODE 4120-01-P